DEPARTMENT OF HOMELAND SECURITY

Coast Guard

33 CFR Part 165

[Docket No. USCG-2025-0670]

Security Zones, Seattle's Seafair Fleet Week Moving Vessels, Puget Sound, WA

AGENCY: Coast Guard, DHS.

ACTION: Notification of enforcement of regulation.

SUMMARY: The Coast Guard will enforce Seattle's Seafair Fleet Week moving vessels security zones from July 29, 2025 through August 5, 2025, to safeguard these vessels from destruction, loss, or injury from sabotage or other subversive acts, accidents, or events or a similar nature. The regulation for these security zones identifies all navigable waters within 500 yards of the designated participating vessels for the Parade of Ships in Elliott Bay, Seattle, Washington as the regulated areas for this event. During the enforcement periods no person or vessel may enter or remain in the established security zones without authorization from the Captain of the Port Sector Puget Sound (COTP) or their designated representative(s). The COTP has granted general permission for vessels to enter the outer 400 yards of the security zones provided they operate at the minimum speed necessary to maintain course unless required to maintain speed by the navigation rules.

DATES: The regulations in 33 CFR 165.1333 will be enforced for the security zones identified in the SUPPLEMENTARY INFORMATION section below from 8 a.m. on July 29, 2025 through 8 p.m. on August 5, 2025.

FOR FURTHER INFORMATION CONTACT: If you have questions about this notification of enforcement, call or email Lieutenant Anthony Pinto, U.S. Coast Guard, Sector Puget Sound, Waterways Management Division; by telephone 206-217-6051, or email SectorPugetSoundWWM@uscg.mil.

SUPPLEMENTARY INFORMATION:

The Coast Guard will enforce the security zone in 33 CFR 165.1333 for Seattle's Seafair Fleet Week from 8 a.m. on July 29, 2025 through 8 p.m. on August 5, 2025. This action is being taken to safeguard the vessels from destruction, loss, or injury from sabotage or other subversive acts, accidents, or events of a similar nature. The regulation for these security zones, § 165.1333(a) specifies the location of the security zone which encompasses all navigable waters within 500 yards of each designated participating vessel in the Parade of Ships while each vessel is in the COTP's zone as defined in 33 CFR 3.65-10.

The following is a list of the designated participating vessels for the Parade of Ships as defined by § 165.1333(b); USS SOMERSET (LPD-25), USS JACK H. LUCAS (DDG-125), and LESCHI (Official Number 1192697).

During the enforcement period, as reflected in § 165.1333(c), no person or vessel may enter or remain in the security zones without permission of the COTP or their designated representative(s). The COTP has granted general permission for vessels to enter the outer 400 yards of the established security zones as long as those vessels within the outer 400 yards of the security zones operate at the minimum speed necessary to maintain course unless required to maintain speed by the navigation rules. The COTP may be assisted by other federal, state, or local agencies with the enforcement of security zones.

All vessel operators who desire to enter the inner 100 yards of the security zones or transit the outer 400 yards at greater than minimum speed to maintain course must obtain permission from the COTP or their designated representative(s) by contacting the on-scene Coast Guard patrol craft on VHF Ch 13 or 16. Requests must include the reason why movement within the area is necessary. Vessel operators granted permission to enter the security zones will be escorted by the on-scene Coast Guard patrol craft until they are outside of the security zones and must obey any lawful direction or order of the COTP or designated representative.

In addition to this notice in the Federal Register, the Coast Guard will provide notification of this enforcement period via marine information broadcasts and the Local Notice to Mariners in advance of the event.

Dated: July 23, 2025.
Mark A. McDonnell,
Captain, U.S. Coast Guard, Captain of the Port, Sector Puget Sound.

[FR Doc. 2025-14295 Filed 7-28-25; 8:45 am]

BILLING CODE 9110-04-P